DEPARTMENT OF DEFENSE

Office of the Assistant Secretary; Defense Task Force on Sexual Assault in the Military Services

AGENCY: DoD; Office of the Assistant Secretary of Defense (Personnel and Readiness).

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meetings of the Defense Task Force on Sexual Assault in the Military Services (hereafter referred to as the Task Force) will take place:

DATES: Wednesday, September 23; Thursday, September 24; Friday, September 25; and Saturday, September 26, 2009. The meetings will be held from 8 a.m. to 4:30 p.m. Eastern Daylight Time (hereafter referred to as EDT).

ADDRESSES: Embassy Suites Hotel, 1900 Diagonal Road, Alexandria, Virginia 22314.

FOR FURTHER INFORMATION, CONTACT: Michael Molnar, Deputy to the Executive Director, 2850 Eisenhower Avenue, Suite 100, Alexandria, Virginia, 22314; phone (888) 325-6640; fax (703) 325-6710; michael.molnar@wso.whs.mil.

SUPPLEMENTARY INFORMATION: Purpose: Purpose of the meeting is to obtain and discuss information on the Task Force's congressionally mandated task to examine matters related to sexual assault in the Military Services through briefings from, and discussion with, Task Force staff, subject-matter experts, document review, and preparation of the Task Force report.

Agenda

Wednesday, September 23, 2009

8 a.m.-8:05 a.m. Welcome, Administrative Remarks.

8:05 a.m.-8:10 a.m. Opening Remarks.

8:10 a.m.-9:30 a.m. Content Discussion and Writing of the Final Report.

9:30 a.m.-9:45 a.m. Break.

9:45 a.m.-12 p.m. Content Discussion and Writing of the Final Report.

12 p.m.-1 p.m. Noon Meal.

1 p.m.-2:30 p.m. Content Discussion and Writing of the Final Report.

2:30 p.m.-2:45 p.m. Break.

2:45 p.m.-4:25 p.m. Content Discussion and Writing of the Final Report.

4:25 p.m.-4:30 p.m. Wrap Up.

Thursday, September 24, 2009

8 a.m.-8:05 a.m. Welcome, Administrative Remarks.

8:05 a.m.-8:10 a.m. Opening Remarks.

8:10 a.m.-9:30 a.m. Content Discussion and Writing of the Final Report.

9:30 a.m.-9:45 a.m. Break.

9:45 a.m.-12 p.m. Content Discussion and Writing of the Final Report.

12 p.m.-1 p.m. Noon Meal.

1 p.m.-2:30 p.m. Content Discussion and Writing of the Final Report.

2:30 p.m.-2:45 p.m. Break.

2:45 p.m.-4:25 p.m. Content Discussion and Writing of the Final Report.

4:25 p.m.-4:30 p.m. Wrap Up.

Friday, September 25, 2009

8 a.m.-8:05 a.m. Welcome, Administrative Remarks.

8:05 a.m.-8:10 a.m. Opening Remarks.

8:10 a.m.-9:30 a.m. Content Discussion and Writing of the Final Report.

9:30 a.m.-9:45 a.m. Break.

9:45 a.m.-12 p.m. Content Discussion and Writing of the Final Report.

12 p.m.-1 p.m. Noon Meal.

1 p.m.-2:30 p.m. Content Discussion and Writing of the Final Report.

2:30 p.m.-2:45 p.m. Break.

2:45 p.m.-4:25 p.m. Content Discussion and Writing of the Final Report.

4:25 p.m.-4:30 p.m. Wrap Up.

Saturday, September 26, 2009

8 a.m.-8:05 a.m. Welcome, Administrative Remarks.

8:05 a.m.-8:10 a.m. Opening Remarks.

8:10 a.m.-9:30 a.m. Content Discussion and Writing of the Final Report.

9:30 a.m.-9:45 a.m. Break.

9:45 a.m.-12 p.m. Content Discussion and Writing of the Final Report.

12 p.m.-1 p.m. Noon Meal.

1 p.m.-2:30 p.m. Content Discussion and Writing of the Final Report.

2:30 p.m.-2:45 p.m. Break.

2:45 p.m.-4:25 p.m. Content Discussion and Writing of the Final Report.

4:25 p.m.-4:30 p.m. Wrap Up.

The public can view meeting updates at http://www.dtic.mil/dtfsams.

Public's Accessibility to the Meeting: Pursuant to 5 U.S.C. 552b and 41 CFR 102-3.140 through 102-3.165, and the availability of space, this meeting is open to the public. Seating is on a first-come basis.

Committee's Designated Federal Officer: Colonel Cora M. Jackson-Chandler; 2850 Eisenhower Avenue, Suite 100, Alexandria, Virginia 22314; phone (888) 325-6640; fax (703) 325-6710; cora.chandler@wso.whs.mil.

Written Statements: Pursuant to 41 CFR 102-3.105(j) and 102-3.140, and section 10(a)(3) of the Federal Advisory Committee Act of 1972, the public or interested organizations may submit written statements to the Defense Task Force on Sexual Assault in the Military Services about its mission and functions. Written statements may be submitted at any time or in response to the stated agenda of a planned meeting of the Defense Task Force on Sexual Assault in the Military Services.

All written statements shall be submitted to the Designated Federal Officer for the Defense Task Force on Sexual Assault in the Military Services, and this individual will ensure that the written statements are provided to the membership for their consideration. Contact information for the Designated Federal Officer is provided in this notice or can be obtained from the GSA's FACA Database: https://www.fido.gov/facadatabase/public.asp.

Written statements being submitted in response to the agenda mentioned in this notice must be received by the Designated Federal Officer at the listed address above no later than 7 a.m., EDT, Wednesday, September 16, 2009. Written statements received after this date may not be provided to, or considered by, the Defense Task Force on Sexual Assault in the Military Services until its next meeting.

The Designated Federal Officer will review all timely submissions with the Defense Task Force on Sexual Assault in the Military Services Co-Chairs and ensure they are provided to all members of the Defense Task Force on Sexual Assault in the Military Services before the meeting that is the subject of this notice.

Dated: August 21, 2009.
Patrica Toppings,
OSD Federal Register Liaison Officer, Department of Defense.

[FR Doc. E9-20667 Filed 8-26-09; 8:45 am]

BILLING CODE 5001-06-P